DEPARTMENT OF COMMERCE

International Trade Administration

(A-588-810)

Mechanical Transfer Presses from Japan: Final Results of Sunset Review and Revocation of Order

AGENCY: Import Administration, International Trade Administration, Department of Commerce.

SUMMARY: On May 2, 2005, the Department of Commerce (“Department”) initiated the second sunset review of the antidumping duty order on mechanical transfer presses from Japan (70 FR 22632). Because the domestic interested parties did not participate in this sunset review, the Department is revoking this antidumping duty order.

EFFECTIVE DATE: June 21, 2005

FOR FURTHER INFORMATION CONTACT: Jacqueline Arrowsmith or Martha Douthit, AD/CVD Operations, Office 6, Import Administration, International Trade Administration, U.S. Department of Commerce, 14th Street and Constitution Avenue, NW., Washington, DC 20230; telephone: (202) 482-5255 or (202) 482-5050, respectively.

SUPPLEMENTARY INFORMATION:

Background

On February 16, 1990, the Department issued antidumping duty order on mechanical transfer presses from Japan (55 FR 5642). On June 1, 1999, the Department initiated a sunset review of this order. The Department later published its notice of continuation of the antidumping duty order. See 65 FR 38507 (June 21, 2000).

On May 2, 2005, the Department of Commerce (“Department”) initiated the second sunset review of the antidumping duty order on mechanical transfer presses from Japan (70 FR 22632). We did not receive a notice of intent to participate from domestic interested parties in this sunset review by the deadline date. See 19 CFR 351.218(d)(1)(iii)(A). As a result, the Department determined that no domestic interested party intends to participate in the sunset review, and on May 27, 2005, we notified the International Trade Commission, in writing, that we intended to issue a final determination revoking this antidumping duty order. See 19 CFR 351.218(d)(1)(iii)(B)(2).

Scope of the Order

Imports covered by this antidumping duty order include mechanical transfer presses, currently classifiable under Harmonized Tariff Schedule of the United States (HTSUS) item numbers 8462.10.0035, 8466.94.6540 and 8466.94.8540 and formerly classifiable as 8462.99.8035, 8462.21.8085, and 8466.94.5040. The HTSUS subheadings are provided for convenience and customs purposes only. The written description of the scope of this order is dispositive. The term “mechanical transfer presses” refers to automatic metal-forming machine tools with multiple die stations in which the work piece is moved from station to station by a transfer mechanism designed as an integral part of the press and synchronized with the press action, whether imported as machines or parts suitable for use solely or principally with these machines. These presses may be imported assembled or unassembled.

Determination to Revoke

Pursuant to section 751(c)(3)(A) of the Act and 19 CFR 351.218(d)(1)(iii)(B)(3), if no domestic interested party files a notice of intent to participate, the Department shall, within 90 days after the initiation of the review, issue a final determination revoking the order. Because the domestic interested parties did not file a notice of intent to participate in this sunset review, the Department finds that no domestic interested party is participating in this sunset review. Therefore, consistent with 19 CFR 351.222(i)(2)(i) and section 751(c)(6)(A)(iii) of the Act, we are revoking this antidumping duty order effective June 21, 2005, the fifth anniversary of the date the Department published the continuation of the antidumping duty order.

Effective Date of Revocation

Pursuant to sections 751(c)(3)(A) and 751(c)(6)(A)(iii) of the Act and 19 CFR 351.222(i)(2)(i), the Department will instruct U.S. Customs and Border Protection to terminate the suspension of liquidation of the merchandise subject to this order entered, or withdrawn from warehouse, on or after June 21, 2005. Entries of subject merchandise prior to the effective date of revocation will continue to be subject to suspension of liquidation and antidumping duty deposit requirements. The Department will complete any pending administrative review of this order and will conduct administrative review of subject merchandise entered prior to the effective date of revocation in response to appropriately filed requests for review.

This five-year (sunset) review and notice are in accordance with sections 751(c) and 777(i)(1) of the Act.

Dated: July 22, 2005.
Joseph A. Spetrini,
Acting Assistant Secretary for Import Administration.

[FR Doc. E5-4074 Filed 7-29-05; 8:45 am]

BILLING CODE 3510-DS-S